DEPARTMENT OF DEFENSE

Department of the Navy

[Docket No. USN-2007-0051]

Proposed Collection; Comment Request

AGENCY: Headquarters, U.S. Marine Corps, DoD.

ACTION: Notice.

In compliance with Section 3506(c)(2)(A) of the Paperwork Reduction Act of 1995, the U.S. Marine Corps announces a proposed new public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by December 31, 2007.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, write to Headquarters, U.S. Marine Corps (LFL), 2 Navy Annex, Room 3109, Washington, DC 20380-1775, or contact Captain David Nasse at (703) 695-8302.

Title and OMB Number: Camp Lejeune Notification Registry; OMB Control Number 0703-TBD.

Needs and Uses: The information collection requirement is used to obtain and maintain contact information of people who may have been exposed to contaminated drinking water aboard Marine Corps Base Camp Lejeune, NC, as well as other parties who are interested in the issue. The information will be used to provide notifications and updated information to such persons regarding possible contamination of the drinking water on Camp Lejeune.

Affected Public: U.S. Service Members (active, reserve, retired, and separated), military dependents, Federal government employees, and civilian personnel who were/are stationed, live(d), or were/are employed aboard Marine Corps Base Camp Lejeune, NC and may have been exposed to contaminated drinking water. Additionally, any person interested in the Camp Lejeune contaminated drinking water issue may also enter their contact information in the system.

Annual Burden Hours: 100.

Number of Respondents: 1000.

Responses per Respondent: 1.

Average Burden per Response: 6 Minutes.

Frequency: On occasion.

SUPPLEMENTARY INFORMATION:

Summary of Information Collection

The Camp Lejeune Notification Registry contains contact information of people who may have been exposed to contaminated drinking water aboard Marine Corps Base Camp Lejeune, NC, as well as other parties who are interested in the issue. The information will be used to provide notifications and updated information to such persons regarding possible contamination of the drinking water on Camp Lejeune.

Dated: October 22, 2007.
Patricia L. Toppings,
Alternate OSD Federal Register Liaison Officer, Department of Defense.

[FR Doc. 07-5377 Filed 10-29-07; 8:45 am]

BILLING CODE 5001-06-M